ENVIRONMENTAL PROTECTION AGENCY

[FRL-6582-5]

Meeting of the Local Government Advisory Committee

AGENCY: Environmental Protection Agency (EPA).

ACTION: Notice.

SUMMARY: The Local Government Advisory Committee will meet on May 11-12, 2000, in Denver, Colorado. Subcommittee sessions will take place on May 12th. The Committee will engage in a strategic planning exercise during this meeting in order to determine their agenda and structure through the end of 2001 and develop work plans to accomplish their goals.

The Committee will hear comments from the public between 2:45 p.m. and 3:00 p.m. on May 11th. Each individual or organization wishing to address the Committee will be allowed a minimum of three minutes. Please contact the Designated Federal Officer (DFO) at the number listed below to schedule agenda time. Time will be allotted on a first come, first serve basis.

This is an open meeting and all interested persons are invited to attend. Meeting minutes will be available after the meeting and can be obtained by written request from the DFO. Members of the public are requested to call the DFO at the number listed below if planning to attend so that arrangements can be made to comfortably accommodate attendees as much as possible. However, seating will be on a first come, first serve basis.

DATES: The meeting will begin at 9:00 a.m. on Thursday, May 11th and conclude at 4:00 p.m. on the 12th.

ADDRESSES: The meetings will be held in Denver, Colorado at the EPA Region VIII Office located at 999 18th Street in the Rocky Mountain and Bison Conference Rooms.

Requests for Minutes and other information can be obtained by writing the DFO at 1200 Pennsylvania Avenue, NW (1306A), Washington, DC 20460.

FOR FURTHER INFORMATION CONTACT: The DFO for this Committee is Denise Zabinski Ney. She is the point of contact for information concerning any Committee matters and can be reached by calling (202) 564-3684 or by email at ney.denise@epa.gov.

Dated: April 12, 2000.
Denise Zabinski Ney,
Designated Federal Officer, Local Government Advisory Committee.

[FR Doc. 00-9922 Filed 4-19-00; 8:45 am]

BILLING CODE 6560-50-P